DEPARTMENT OF THE INTERIOR

Fish and Wildlife Service

50 CFR Part 20

[Docket No. FWS-HQ-MB-2014-0064; FF09M21200-156-FXMB1231099BPP0]

RIN 1018-BA67

Migratory Bird Hunting; Supplemental Proposals for Migratory Game Bird Hunting Regulations for the 2015-16 Hunting Season; Notice of Meetings

AGENCY: Fish and Wildlife Service, Interior.

ACTION: Proposed rule; supplemental.

SUMMARY: We, the U.S. Fish and Wildlife Service (Service), proposed in an earlier document to establish annual hunting regulations for certain migratory game birds for the 2015-16 hunting season. This supplement to the proposed rule provides the regulatory schedule, announces the Service Migratory Bird Regulations Committee and Flyway Council meetings, and provides Flyway Council recommendations resulting from their March meetings.

DATES: Comments: You must submit comments on the proposed regulatory alternatives for the 2015-16 duck hunting seasons on or before June 26, 2015, as detailed in the proposed rule published in the Federal Register on April 13, 2015 (80 FR 19852). Following subsequent Federal Register notices, you will be given an opportunity to submit comments for proposed early-season frameworks by July 29, 2015, and for proposed late-season frameworks by August 29, 2015.

Meetings: The Service Migratory Bird Regulations Committee will meet to consider and develop proposed regulations for early-season migratory bird hunting on June 24 and 25, 2015; and for late-season migratory bird hunting and the 2015 spring/summer Alaskan migratory bird subsistence season on July 29 and 30, 2015. All meetings will commence at approximately 8:30 a.m. and are open to the public.

ADDRESSES: Comments: You may submit comments on the proposals by one of the following methods:

• Federal eRulemaking Portal: http://www.regulations.gov. Follow the instructions for submitting comments on Docket No. FWS-HQ-MB-2014-0064.

• U.S. mail or hand-delivery: Public Comments Processing, Attn: FWS-HQ-MB-2014-0064; Division of Policy, Performance, and Management Programs; U.S. Fish and Wildlife Service, MS: BPHC; 5275 Leesburg Pike, Falls Church, VA 22041.

We will not accept emailed or faxed comments. We will post all comments on http://www.regulations.gov. This generally means that we will post any personal information you provide us (see the Public Comments section, below, for more information).

Meetings: The Service Migratory Bird Regulations Committee will meet at the U.S. Fish and Wildlife Service, 5275 Leesburg Pike, Falls Church, Virginia.

FOR FURTHER INFORMATION CONTACT: Ron W. Kokel at: Division of Migratory Bird Management, U.S. Fish and Wildlife Service, Department of the Interior, MS:MB, 5275 Leesburg Pike, Falls Church, VA 22041; (703) 358-1714.

SUPPLEMENTARY INFORMATION:

Regulations Schedule for 2015

On April 13, 2015, we published in the Federal Register (80 FR 19852) a proposal to amend 50 CFR part 20. The proposal provided a background and overview of the migratory bird hunting regulations process, and addressed the establishment of seasons, limits, and other regulations for hunting migratory game birds under §§ 20.101 through 20.107, 20.109, and 20.110 of subpart K. This document is the second in a series of proposed, supplemental, and final rules for migratory game bird hunting regulations. We will publish proposed early-season frameworks in early July and late-season frameworks in early August. We will publish final regulatory frameworks for early seasons on or about August 15, 2015, and for late seasons on or about September 19, 2015.

Service Migratory Bird Regulations Committee Meetings

The Service Migratory Bird Regulations Committee (SRC) will meet June 24-25, 2015, to review information on the current status of migratory shore and upland game birds and develop 2015-16 migratory game bird regulations recommendations for these species, plus regulations for migratory game birds in Alaska, Puerto Rico, and the Virgin Islands. The SRC will also develop regulations recommendations for September waterfowl seasons in designated States, special sea duck seasons in the Atlantic Flyway, and extended falconry seasons. In addition, the SRC will review and discuss preliminary information on the status of waterfowl.

At the July 29-30, 2015, meetings, the SRC will review information on the current status of waterfowl and develop 2015-16 migratory game bird regulations recommendations for regular waterfowl seasons and other species and seasons not previously discussed at the early-season meetings. In addition, the SRC will develop recommendations for the 2016 spring/summer migratory bird subsistence season in Alaska.

In accordance with Departmental policy, these meetings are open to public observation. You may submit written comments to the Service on the matters discussed.

Announcement of Flyway Council Meetings

Service representatives will be present at the individual meetings of the four Flyway Councils this July. Although agendas are not yet available, these meetings usually commence at 8 a.m. on the days indicated and are also open to the public.

Atlantic Flyway Council: July 23-24, Hilton Albany, Albany, NY.

Mississippi Flyway Council: July 23-24, Doubletree Hotel, New Orleans, LA.

Central Flyway Council: July 23-24, Best Western GranTree Inn, Bozeman, MT.

Pacific Flyway Council: July 24, Whitney Peak Hotel, Reno, NV.

Review of Public Comments

This supplemental rulemaking describes Flyway Council recommended changes based on the preliminary proposals published in the April 13, 2015, Federal Register. We have included only those recommendations requiring either new proposals or substantial modification of the preliminary proposals and do not include recommendations that simply support or oppose preliminary proposals and provide no recommended alternatives. Our responses to some Flyway Council recommendations, but not others, are merely a clarification to aid the reader on the overall regulatory process, not a definitive response to the issue. We will publish responses to all proposals and written comments when we develop final frameworks.

We seek additional information and comments on the recommendations in this supplemental proposed rule. New proposals and modifications to previously described proposals are discussed below. Wherever possible, they are discussed under headings corresponding to the numbered items identified in the April 13, 2015, proposed rule. Only those categories requiring your attention or for which we received Flyway Council recommendations are discussed below.

1. Ducks

Duck harvest management categories are: (A) General Harvest Strategy; (B) Regulatory Alternatives, including specification of framework dates, season length, and bag limits; (C) Zones and Split Seasons; and (D) Special Seasons/Species Management.

A. General Harvest Strategy

Council Recommendations: The Mississippi Flyway Council recommended that regulations changes be restricted to one step per year, both when restricting as well as liberalizing hunting regulations.

Service Response: As we stated in the April 13, 2015, Federal Register, the final adaptive harvest management (AHM) protocol for the 2015-16 season will be detailed in the early-season proposed rule, which will be published in mid-July.

B. Regulatory Alternatives

Council Recommendations: The Mississippi and Central Flyway Councils recommended that regulatory alternatives for duck hunting seasons remain the same as those used in 2014-15.

Service Response: As we stated in the April 13, 2015, Federal Register, the final regulatory alternatives for the 2015-16 season will be detailed in the early-season proposed rule, which will be published in mid-July.

C. Zones and Split Seasons

Council Recommendations: The Mississippi and Central Flyway Councils recommended no changes to the existing zone and split season guidelines. However, they further recommended that States be provided the option of changing duck zones and split arrangements in either the 2016-17 or 2017-18 seasons, with the next open season in 2021 for the 2021-25 period.

4. Canada Geese

A. Special Seasons

Council Recommendations: The Pacific Flyway Council recommended increasing season length from 7 to 15 days and the daily bag limit from 2 to 5 for Canada geese in Idaho.

B. Regular Seasons

Council Recommendations: The Mississippi Flyway Council recommended that the framework opening date for all species of geese for the regular goose seasons be September 16, 2015, in the Lower Peninsula of Michigan and Wisconsin, and September 11, 2015, in the Upper Peninsula of Michigan.

6. Brant

For the 2015-16 Atlantic brant season, we will continue to use the existing Flyway Cooperative Management Plan for this species to determine the appropriate hunting regulations. However, as we discuss below, the process for determining regulations for the 2016-17 season will need to be modified. In the April 30, 2014 (79 FR 24512), and the April 13, 2015 (80 FR 19852), Federal Registers, we discussed how, under the new regulatory process, the current early- and late-season regulatory actions will be combined into a new single process beginning with the 2016-17 seasons. Regulatory proposals will be developed using biological data from the preceding year(s), model predictions, or most recently accumulated data that are available at the time the proposals are being formulated. Individual harvest strategies will be modified using data from the previous year(s) because the current year's data would not be available for many of the strategies. Further, we stated that, during this transition period, harvest strategies and prescriptions would be modified to fit into the new regulatory schedule. Atlantic brant is one such species that will require some modifications to the regulatory process that we have largely used since 1992 to establish the annual frameworks.

In developing the annual proposed frameworks for Atlantic brant in the past, the Atlantic Flyway Council and the Service used the number of brant counted during the Mid-winter Waterfowl Survey (MWS) in the Atlantic Flyway, and took into consideration the brant population's expected productivity that summer. The MWS is conducted each January, and expected brant productivity is based on early-summer observations of breeding habitat conditions and nesting effort in important brant nesting areas. Thus, the data under consideration were available before the annual Flyway and SRC decision-making meetings took place in late July. Although the existing regulatory alternatives for Atlantic brant were developed by factoring together long-term productivity rates (observed during November and December productivity surveys) with estimated observed harvest under different framework regulations, the primary decision-making criterion for selecting the annual frameworks was the MWS count.

In the April 13, 2015, Federal Register, we presented the major steps in the 2016-17 regulatory cycle relating to biological information availability, open public meetings, and Federal Register notifications. Under the new regulatory schedule due to be implemented this fall and winter for the 2016-17 migratory bird hunting regulations, neither the expected 2016 brant production information (available summer 2016) nor the 2016 MWS count (conducted in January 2016) will be available this October, when the decisions on proposed Atlantic brant frameworks for the 2016-17 seasons must be made. However, the 2016 MWS will be completed and winter brant data available by the expected publication of the final frameworks (late February 2016). Therefore, while we plan to discuss this issue with the Atlantic Flyway Council this summer, we envision proposing frameworks for Atlantic brant in 2016-17 similar to the ones laid out below, with the final decision to be determined by the 2016 MWS count:

If the MWS count is <100,000 Atlantic brant, the season will be closed.

If the MWS count is between 100,000 and 125,000 brant, States may select a 30-day season between the Saturday nearest September 24 and January 31, with a 2-bird daily bag limit. States may split their seasons into 2 segments.

If the MWS count is between 125,000 and 150,000 brant, States may select a 50-day season between the Saturday nearest September 24 and January 31, with a 2-bird daily bag limit. States may split their seasons into 2 segments.

If the MWS count is between 150,000 and 200,000 brant, States may select a 60-day season between the Saturday nearest September 24 and January 31, with a 2-bird daily bag limit. States may split their seasons into 2 segments.

If the MWS count is >200,000 brant, States may select a 60-day season between the Saturday nearest September 24 and January 31, with a 3-bird daily bag limit. States may split their seasons into 2 segments.

While only an illustration at this point, the example prescriptive regulatory frameworks listed above are identical to those contained in the Atlantic Flyway Council's current Atlantic brant hunt plan (2011), with the exception of considering expected brant production. However, at this time our new regulatory schedule will likely preclude any formal consideration of the brant population's expected productivity in the summer. While something similar to this process would be a slight change to the existing mechanics of the Atlantic brant hunt plan, we believe it would have no significant effects on the long-term conservation of the Atlantic brant resource. We look forward to continuing discussions and work on the Atlantic brant issue with the Atlantic Flyway Council this summer in preparation for the 2016-17 season.

For a more detailed discussion of the various technical aspects of the new regulatory process, we refer the reader to the 2013 Supplementary Environmental Impact Statement available on our Web site at http://www.fws.gov/migratorybirds.

8. Swans

Council Recommendations: The Atlantic, Mississippi, and Central Flyway Councils recommended increasing tundra swan permit numbers by 25 percent (2,400 permits) for the 2015-16 season, if the final 3-year running average mid-winter count exceeds 110,000 Eastern Population tundra swans, in accordance with the Eastern Population tundra swan management plan.

9. Sandhill Cranes

Council Recommendations: The Atlantic and Mississippi Flyway Councils recommended that Kentucky be granted an operational sandhill crane hunting season beginning in 2015 following the guidelines established in the Eastern Population of Sandhill Cranes Management Plan (EP Management Plan). Kentucky's operational season would consist of a maximum season length of 60 days (with no splits) to be held between September 1 and January 31, with a daily bag limit of 2 birds, and a season limit of 3 birds. Hunting would occur between sunrise and sunset. Per the guidelines set forth in the EP Management Plan, and based on the state's 5-year peak average of 12,072 birds, Kentucky would be allowed to issue a maximum of 1,207 tags during the 2015-16 season. These permits would be divided among 400 permitted hunters. Hunters would be required to take mandatory whooping crane identification training, utilize Service-approved nontoxic shot shells, tag birds, report harvest daily via Kentucky's reporting system, and complete a post-season survey.

The Central and Pacific Flyway Councils recommended using the Rocky Mountain Population (RMP) sandhill crane harvest allocation of 938 birds as proposed in the allocation formula using the 3-year running population average for 2012-14. The Councils also recommended that, under the new annual regulatory process beginning with the 2016-17 season, the harvest strategy described in the Pacific and Central Flyway Management Plan for RMP sandhill cranes be published in the proposed season frameworks and be used to determine allowable harvest. They recommended that the final allowable harvest each year be included in the final season frameworks published in February.

The Pacific Flyway Council recommended some minor changes to the hunt area boundaries in Idaho to simplify and clarify hunt area descriptions. More specifically, Area 5 would now include all of Franklin County and Area 1 would include all of Caribou County except that portion lying within the Grays Lake Basin.

Service Response: Regarding the RMP crane harvest and the new regulatory process, this issue is very similar to the Atlantic brant issue discussed above under 6. Brant. Currently, results of the fall survey of RMP sandhill cranes, upon which the annual allowable harvest is based, will continue to be released between December 15 and January 31 each year, which is after the date for which proposed frameworks will be formulated. If the usual procedures for determining allowable harvest were used, data 2-4 years old would be used to determine the annual allocation for RMP sandhill cranes. Due to the variability in fall survey counts and recruitment for this population, and their impact on the annual harvest allocations, we agree that relying on data that is 2-4 years old is not ideal. Thus, we look forward to continuing discussions and work on the RMP crane issue with the Central and Pacific Flyway Councils this summer in preparation for the 2016-17 season.

11. Moorhens and Gallinules

Council Recommendations: The Atlantic Flyway Council recommended allowing the hunting of purple swamphens in Florida beginning in 2015. They recommended that hunting be allowed during any open waterfowl season and that all regulations in 50 CFR 20 subparts C and D would apply. Further, they recommended a daily bag limit of 25 birds, with a possession limit of 75. They also recommended that we exclude this species from monitoring programs.

15. Band-Tailed Pigeons

Council Recommendations: The Central and Pacific Flyway Councils recommended decreasing the season length for the Interior Population of band-tailed pigeons from 30 days to 14 days, and decreasing the bag limit from 5 to 2.

16. Mourning Doves

Council Recommendations: The Atlantic and Mississippi Flyway Councils recommended use of the “standard” season framework comprising a 90-day season and 15-bird daily bag limit for States within the Eastern Management Unit. The daily bag limit could be composed of mourning doves and white-winged doves, singly or in combination.

The Mississippi and Central Flyway Councils recommend the use of the “standard” season package of a 15-bird daily bag limit and a 70-day season for the 2015-16 mourning dove season in the States within the Central Management Unit.

The Pacific Flyway Council recommended use of the “standard” season framework for States in the Western Management Unit (WMU) population of doves. In Idaho, Nevada, Oregon, Utah, and Washington, the season length would be no more than 60 consecutive days with a daily bag limit of 15 mourning and white-winged doves in the aggregate. In Arizona and California, the season length would be no more than 60 consecutive days, which could be split between two periods, September 1-15 and November 1-January 15. In Arizona, during the first segment of the season, the daily bag limit would be 15 mourning and white-winged doves in the aggregate, of which no more than 10 could be white-winged doves. During the remainder of the season, the daily bag limit would be 15 mourning doves. In California, the daily bag limit would be 15 mourning and white-winged doves in the aggregate, of which no more than 10 could be white-winged doves.

The Central Flyway Council also recommended that the Service adopt a new “standard” season package framework comprising a 90-day season and 15-bird daily bag limit for States within the Central Management Unit beginning with the 2016-17 hunting season.

17. Alaska

Council Recommendations: The Pacific Flyway Council recommended several changes in the Alaska early-season frameworks. Specifically, they recommended:

1. In Unit 18, in western Alaska, increasing white-fronted geese daily bag and possession limits from 8 and 24, to 10 and 30, respectively.

2. For Canada geese in Units 6-B, 6-C, and on Hinchinbrook and Hawkins Islands in Unit 6-D, increasing the possession limit from two times to three times the daily bag limit.

Public Comments

The Department of the Interior's policy is, whenever practicable, to afford the public an opportunity to participate in the rulemaking process. Accordingly, we invite interested persons to submit written comments, suggestions, or recommendations regarding the proposed regulations. Before promulgation of final migratory game bird hunting regulations, we will take into consideration all comments we receive. Such comments, and any additional information we receive, may lead to final regulations that differ from these proposals.

You may submit your comments and materials concerning the proposed rule by one of the methods listed in ADDRESSES. We will not accept comments sent by email or fax or to an address not listed in ADDRESSES. Finally, we will not consider hand-delivered comments that we do not receive, or mailed comments that are not postmarked, by the date specified in DATES. We will post all comments in their entirety—including your personal identifying information—on http://www.regulations.gov. Before including your address, phone number, email address, or other personal identifying information in your comment, you should be aware that your entire comment—including your personal identifying information—may be made publicly available at any time. While you can ask us in your comment to withhold your personal identifying information from public review, we cannot guarantee that we will be able to do so. Comments and materials we receive, as well as supporting documentation we used in preparing the proposed rule, will be available for public inspection on http://www.regulations.gov, or by appointment, during normal business hours, at the U.S. Fish and Wildlife Service, Division of Migratory Bird Management, 5275 Leesburg Pike, Falls Church, VA.

For each series of proposed rulemakings, we will establish specific comment periods. We will consider, but possibly may not respond in detail to, each comment. As in the past, we will summarize all comments we receive during the comment period and respond to them after the closing date in any final rules.

Required Determinations

Based on our most current data, we are affirming our required determinations made in the proposed rule; for descriptions of our actions to ensure compliance with the following statutes and Executive Orders, see our April 13, 2015, proposed rule (80 FR 19852):

• National Environmental Policy Act;

• Endangered Species Act;

• Regulatory Planning and Review;

• Regulatory Flexibility Act;

• Small Business Regulatory Enforcement Fairness Act;

• Paperwork Reduction Act;

• Unfunded Mandates Reform Act;

• Executive Orders 12630, 12988, 13175, 13132, and 13211.

List of Subjects in 50 CFR Part 20

Exports, Hunting, Imports, Reporting and recordkeeping requirements, Transportation, Wildlife.

Authority

The rulemaking outlined in the proposed rule published in the Federal Register on April 13, 2015 (80 FR 19852) and in this supplemental notice of proposed rulemaking, proposed to be promulgated for the 2015-16 hunting season, is authorized under 16 U.S.C. 703-711, 16 U.S.C. 712, and 16 U.S.C. 742 a-j.

Dated: June 2, 2015.
Michael J. Bean,
Principal Deputy Assistant Secretary for Fish and Wildlife and Parks.

[FR Doc. 2015-14128 Filed 6-10-15; 8:45 am]

BILLING CODE 4310-55-P